ENVIRONMENTAL PROTECTION AGENCY

40 CFR Part 52

[PA-172-4194a; FRL-7271-4]

Approval and Promulgation of Air Quality Implementation Plans; Pennsylvania; Revision to the State Implementation Plan (SIP) Addressing Sulfur Dioxide in Philadelphia County

AGENCY: Environmental Protection Agency (EPA).

ACTION: Direct final rule.

SUMMARY: EPA is taking direct final action to approve revisions to the Commonwealth of Pennsylvania State Implementation Plan (SIP) submitted by the Pennsylvania Department of Environmental Protection (PADEP). The revisions consists of Operating Permits modifying the sulfur dioxide (SO2) allowable emissions at four facilities in Philadelphia County, Pennsylvania. The Operating Permits were issued to Trigen-Philadelphia Energy Corporation, Schuylkill Station, Grays Ferry Cogeneration Partnership, PECO Energy Company, Schuylkill Generating Station, and Sunoco, Inc. (R&M) Philadelphia Refinery. EPA is approving these revisions to incorporate the four Operating Permits into the Federally-approved SIP. The intention of this action is to regulate SO2 emissions in accordance with the requirements of the Clean Air Act (CAA).

DATES: This rule is effective on November 8, 2002, without further notice, unless EPA receives adverse written comment by October 9, 2002. If EPA receives such comments, it will publish a timely withdrawal of the direct final rule in the Federal Register and inform the public that the rule will not take effect.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW, Room B108, Mail Code 6102T, Washington, DC 20460; the Pennsylvania Department of Environmental Protection, Bureau of Air Quality, P.O. Box 8468, 400 Market Street, Harrisburg, Pennsylvania 17105; and the Department of Public Health, Air Management Services (AMS), 321 University Avenue, Philadelphia, Pennsylvania 19104.

FOR FURTHER INFORMATION CONTACT: Denis Lohman, (215) 814-2192, or Ellen Wentworth, (215) 814-2034, or by e-mail at lohman.denny@epa.gov or wentworth.ellen@epa.gov. Please note that while questions may be posed via e-mail, formal comments must be submitted, in writing, as indicated in the ADDRESSES section of this document.

SUPPLEMENTARY INFORMATION:

I. Background

On March 23, 2001, the Commonwealth of Pennsylvania submitted formal revisions to its State Implementation Plan (SIP). These revisions apply to sources in Philadelphia County, Pennsylvania, subject to Air Management Regulation (AMR) XIII under the authority of 25 PA Code Chapter 127, “Construction, Modification, Reactivation and Operation of Sources,” to prevent and control air pollution from the emissions of SO2. The SIP revisions consist of four Operating Permits issued by the Philadelphia Department of Public Health, AMS, with authority under 25 PA Code Chapter 127, for four facilities in the County.

A. What Action Is EPA Taking in This Rulemaking?

The EPA is approving as SIP revisions and incorporating by reference into the Pennsylvania SIP, four Operating Permits containing new SO2 emission limits for four facilities located in Philadelphia County. The facilities are Trigen-Philadelphia Energy Corporation, Schuylkill Station, Grays Ferry Cogeneration Partnership, PECO Energy Company, Schuylkill Generating Station, and Sunoco, Inc. (R&M) Philadelphia Refinery. This action approves these Operating Permits into the SIP and makes them Federally-enforceable.

B. Why Were Changes in Emission Rates Necessary?

A modeling analysis for a Prevention of Significant Deterioration (PSD) permit for replacement boilers at the Philadelphia Naval Shipyard revealed potential exceedances of the 24-hour SO2 National Ambient Air Quality Standards (NAAQS). Preliminary modeling indicated that these four sources at their existing allowable emission rates, were substantial contributors to violations of the NAAQS for SO2. The Philadelphia Department of Public Health, AMS, required each of the sources with significant contributions to the exceedances to re-evaluate their emissions and, if necessary, to define new emission limitations to ensure attainment and maintenance of the SO2 standards. The PSD permit was issued to the Philadelphia Naval Shipyard in 1996 when it was determined that the facility did not have a significant contribution to the modeled exceedances.

With the authority under the Pennsylvania Code Title 25, Philadelphia Code Title III, and AMR XIII, AMS issued these permits to address the potential deficiencies of the Philadelphia portion of the Pennsylvania SIP. Three of the sources, Trigen-Philadelphia Energy Corporation, Schuylkill Station, Grays Ferry Cogeneration Partnership, and PECO Energy Company, Schuylkill Generating Station are at a common location in what is termed, the Philadelphia Energy Complex (PEC). The fourth source is the Sunoco Inc. (R&M) Philadelphia Refinery which includes a combined cycle project PSD analysis.

C. What Is a SIP?

Section 110 of the CAA requires states to develop air pollution regulations and control strategies to ensure that state air quality meets the NAAQS established by the EPA. These ambient air quality standards are established under the Clean Air Act and they address six criteria air pollutants: carbon monoxide, nitrogen dioxide, ozone, lead, particulate matter, and sulfur dioxide.

Each state must submit regulations and control strategies to EPA for approval and incorporation into the Federally-enforceable SIP. Each state has a SIP designed to protect its air quality. These SIPs are extensive, containing regulations, enforceable emission limits, emission inventories, monitoring networks, and modeling demonstrations. The Pennsylvania SIP contains various permits to meet the SIP requirements and other state statutory requirements. The permits are developed to contain specific conditions for a particular source and can provide specific conditions such as, emission limits, hours of operation, recordkeeping requirements, production rates, compliance demonstration requirements, etc. Once properly issued, state-enforceable Operating Permits are approved by EPA as SIP revisions and are incorporated by reference into the SIP and become Federally-enforceable.

D. What Are the Procedural Requirements Pennsylvania Must Follow for Approval?

The CAA requires states to observe certain procedural requirements while developing SIP revisions for submission to and approval by EPA. Section 110(1) of the CAA requires that a revision to a SIP must be adopted by such state after reasonable notice and public hearing. The EPA must also determine whether a submittal is complete and warrants further action (see section 110(k)(1) and 57 FR 13565). The EPA's completeness criteria for SIP revision submittals are found at 40 Code of Federal Regulations (CFR) part 51, appendix V.

Pennsylvania's March 23, 2001 submittal for Philadelphia County was determined to be administratively complete by EPA through a letter to the Director of PADEP, Bureau of Air Quality, dated July 17, 2001. The Commonwealth of Pennsylvania held a public hearing on this SIP revision on April 18, 2000. The SIP revision was then submitted by PADEP to EPA by cover letter dated March 23, 2001. The SIP revision demonstrates attainment of the SO2 NAAQS in Philadelphia County, Pennsylvania.

All state regulations and supporting information approved by EPA under section 110 of the CAA are incorporated into the Federally-approved SIP. Records of such SIP actions are maintained in the 40 CFR part 52. The actual state regulations and permits which are approved as SIP revisions are not reproduced in their entirety in the CFR but are “incorporated by reference,” with a specific effective date.

E. What Are the Health Effects Associated With This Criteria Pollutant?

Sulfur dioxide belongs to the family of sulfur oxide gases. These gases are formed when fuel containing sulfur, such as coal and oil, is burned, and during metal smelting, and other industrial processes. Sulfur dioxide is a rapidly-diffusing reactive gas that is very soluble in water. Sulfur dioxide and oxides of nitrogen are the major precursors to acidic deposition (acid rain), and are associated with the acidification of lakes and streams, corrosion of buildings and monuments. They are also associated with reduced visibility. Sulfur dioxide in the Philadelphia area is emitted principally from combustion or processing of sulfur-containing fossil fuels and ores. At elevated concentrations, sulfur dioxide can adversely affect human health. The major health concerns associated with exposure to high concentrations of SO2 include effects on breathing, respiratory illness, alterations in the lungs' defenses, and aggravation of existing cardiovascular disease. Sulfur dioxide can also produce damage to the foliage of trees and agricultural crops.

F. What Are the NAAQS for SO2?

The primary NAAQS for sulfur oxides, measured as SO2, are 0.14 parts per million (ppm), or 365 micrograms per cubic meter (μg/m ³), averaged over a period of 24 hours and not to be exceeded more than once per year, and an annual standard of 0.030 ppm, or 80 μg/m ³ never to be exceeded. The secondary standard for SO2 is 0.50 ppm, or 1300 μg/m ³ averaged over a three-hour period. The secondary standard may not be exceeded more than once per year.

II. Summary of the SIP Revisions

1. The purpose of these revisions is to ensure the Federal-enforceability of Operating Permits entered between the City of Philadelphia, Department of Public Health, AMS, and four sources in Philadelphia County, Pennsylvania. The essential special compliance provisions of the four Operating Permits are presented below. Each Operating Permit also contains generic provisions requiring compliance with AMR III, the Control of Emission Oxides of Sulfur Compounds, as well as good air pollution control practices.

(1) Trigen-Philadelphia Energy Corporation, Schuylkill Station SO2 Operating Permit # SO2-95-002

The Trigen-Philadelphia Energy Corporation, Schuylkill Station, operates a steam generating facility in Philadelphia, Pennsylvania. The SO2 emission limits defined in the Operating Permit mandate that Boilers 23, 24, and 26, may not burn fuel oil that contains sulfur in excess of 0.5 percent by weight. Work practice standards require that no more than four of the following units can be operated at the same time: Boilers 23, 24, 25 and 26, and the Combustion Turbine/Heat Recovery Steam Generator (CT/HRSG). Boilers 23 or 24 can be operated at any load when only one unit is operating at a time. Boilers 23 and 24 are limited to 73.7 percent of full load when both units are operating simultaneously. Boilers 23, 24, 25, 26 and the CT/HRSG are to be operated in accordance with the stack and diameter parameters established in the dispersion model submitted to AMS on December 1, 1997.

Monitoring requirements stated in the permit require the facility to monitor the percent sulfur in each fuel oil upon delivery. In addition, an oil sample must be tested for each barge delivery and a daily composite tested for each truck delivery. Reporting requirements require any violation of an emission limitation to be reported (by phone call or facsimile transmission) to AMS within 24 hours of detection and followed by written notification within thirty-one (31) days. The facility must also submit to AMS semiannual reports of the performance of the facility using the City of Philadelphia Monitoring Report Form. These reports shall consist of a description of any deviations from permit requirements that occurred during the six-month reporting period, the probable cause of such deviations, and corrective actions or preventive measures taken.

(2) Grays Ferry Cogeneration Partnership SO2 Operating Permit # SO2-95-002A

The Grays Ferry Cogeneration Partnership owns and operates an electrical and steam generating facility in Philadelphia, Pennsylvania. The SO2 emission limits defined in the Operating Permit mandate that the CT/HRSG and Boiler 25 may not burn fuel oil that contains sulfur in excess of 0.2 percent by weight. Work practice standards require that no more than four of the following units can be operated simultaneously: Boilers 23, 24, 25, 26 and the CT/HRSG. Boiler 23 or 24 can be operated at any load when only one unit is operating at a time. Boilers 23 and 24 are limited to 73.7 percent of full load when both units are operating simultaneously. Boilers 23, 24, 25, 26 and the CT/HRSG are to be operated in accordance with the stack and diameter parameters established in the dispersion model submitted to AMS on December 1, 1997.

Monitoring requirements defined in the permit require the facility to monitor the percent sulfur in each fuel oil upon delivery. In addition, an oil sample must be tested for each barge delivery and a daily composite tested for each truck delivery. The permit also mandates that the CT and HRS cannot be connected to FML02 (the fuel oil storage tank for the boilers). Reporting requirements require any violation of an emission limitation to be reported (by phone call or facsimile transmission) to AMS within 24 hours of detection and followed by written notification within thirty-one (31) days. The facility must also submit to AMS semiannual reports of the performance of the facility using the City of Philadelphia Monitoring Report Form. These reports shall consist of a description of any deviations from permit requirements that occurred during the six-month reporting period, the probably cause of such deviations, and the corrective actions or preventive measures taken.

(3) PECO Energy Company Schuylkill Generating Station SO2 Operating Permit # SO2-95-006

PECO Energy Company owns and operates an electrical generation facility in Philadelphia, Pennsylvania. The SO2 emission limits defined in the Operating Permit mandate that Boiler 1 may not burn fuel oil that contains sulfur in excess of 0.5 percent by weight. In addition, the CT #10 and #11 may not burn fuel oil that contains sulfur in excess of 0.09 percent by weight, and the emergency Diesel Generator may not burn fuel oil that contains sulfur in excess of 0.2 percent by weight. Work practice standards require that the facility operate its sources in accordance with the stack and diameter parameters established in the dispersion model submitted to AMS on December 1, 1997.

Monitoring requirements defined in the permit require the facility to monitor the percent sulfur in each fuel oil upon delivery. In addition, an oil sample must be tested for each #6 fuel oil delivery and a daily composite tested for each #2 fuel oil delivery. The CT cannot be connected to the fuel oil storage tank for the boilers or the Emergency Diesel Generator. The Operating Permit also states that the Emergency Diesel Generator can not be connected to the fuel oil storage tank for the boilers. Reporting requirements require any violation of an emission limitation to be reported (by phone call or facsimile transmission) to AMS within 24 hours of detection followed by written notification within thirty-one (31) days. The facility is required to submit to AMS semiannual reports of the performance of the facility using the City of Philadelphia Monitoring Report Form. These reports shall consist of a description of any deviations from permit requirements that occurred during the six-month reporting period, the probable cause of such deviations, and corrective actions or preventive measures taken.

(4) Sunoco Inc. (R&M) Philadelphia Refinery SO2 Operating Permit # SO2-95-039

Sunoco, Inc. (R&M) owns and operates a refinery in Philadelphia, Pennsylvania. The SO2 emission limits defined in the Operating Permit mandate that the CO Boiler at Girard Point—CD-004 (the CO boiler at the 1232 FCCU) not exceed 500 parts per million dry volume (ppmvd) SO2 at any time. In addition, the permit establishes an emission limit for the heaters and boilers at Girard Point of 0.53 lb. SO2 /MMBTU and a rolling 365 day average emission limit of 0.33 lb.SO2/MMBTU.

The SO2 emission limits for the sources at Point Breeze as defined in the Operating Permit, require that the C-129 (heater 8H101) not exceed 0.1 gr.H2S/dscf. In addition, the combined SO2 emission rate from P-659 & P-660 (the Sulfur Recovery units) cannot exceed 31.72 lb./hour, and the SO2 emission rate from P-661 (FCCU) cannot exceed 358 lb./hour. The permit also establishes emission limits for the boilers and heaters at Point Breeze of 0.034-0.53-lb.SO2/MMBTU and a rolling 365 day average emission limit of 0.33-0.034 lb.SO2 /MMBTU. Work practice standards require that the facility operate its sources consistent with all parameters established in the dispersion model submitted to AMS on August 6, 1999. These parameters are explicitly defined in the Operating Permit. Monitoring requirements defined in the permit require that the facility monitor the process rates for sources P-661 (FCCU 868), P-659, and P-660 (SRU 867) on a daily basis. The facility must demonstrate compliance with the SO2 emission limitations through use of Continuous Emission Monitors (CEM) in accordance with 25 PA Code Chapter 139 procedure. For all other combustion units excluding flares, the facility must monitor the fuel type and fuels usage for each combustion unit, boiler, process heater, etc., on a daily basis. The facility shall demonstrate compliance with the SO2 emission limitations by monitoring the sulfur content of the fuel burned. For sources P-117 (the Flare for Unit 1231), P-118 (the Flare for Unit 1232), P-642 (North Flare), and P-643 (South Flare), the facility must monitor the fuel type and fuels usage and sulfur content of the fuel burned for each flare pilot on a daily basis. The facility must also monitor that the feed to the flares does not exceed the worst case scenario used in the modeling demonstration. The facility shall determine SO2 emissions using the same analysis and calculations used in the modeling demonstration.

Reporting requirements require the facility to submit to AMS, the CEM report for SO2 in accordance with 25 PA Code Chapter 139 procedure, quarterly. The report must contain, at a minimum, the date, time, duration, and magnitude of excess emissions; the reason for any excessive emissions; corrective action taken; for each day, the number of valid monitoring hours, the causes for any invalid monitoring hours contained in daily average and corrective actions taken; and the results of all quality control and quality assurance actions taken. The permit also requires the facility to submit to AMS, quarterly reports of the performance of the facility using the City of Philadelphia Monitoring Report Form. These reports shall consist of a description of any deviations from permit requirements that occurred during the three-month reporting period; the probable cause of such deviations, and corrective actions or preventive measures taken; a description of any malfunction of processes, air pollution control equipment, or monitoring equipment that occurred during the three month reporting period; the date and duration of the incidents; the probable cause of the incidents, and actions taken to remediate such incidents; a description of any sources which have not operated in more than one year; and annual compliance certification.

2. Two dispersion modeling analyses are included with the SIP submittal, each of which uses the Industrial Source Complex—Short Term (ISCST) model specified as preferred in appendix W to 40 CFR part 51 (Guideline on Air Quality Models). One analysis is for the PEC. The second analysis is for the combined cycle energy project at the Sunoco Refinery.

The final dispersion modeling, based upon current SIP allowable SO2 emission limits and the SO2 emission limits of sources amended through Operating Permits, demonstrate that the maximum SO2 impacts ¹ do not violate the SO2 NAAQS. The modeled impacts, including background concentrations are as follows:

¹ The SO2 3-hour and 24-hour NAAQS are determined by the highest second-highest concentration in a year. One exceedance per year does not constitute a violation.

Predicted High Second-High Sulfur Dioxide Impacts
[micrograms per cubic meter]
Period | ISCST3 | Background | Total | NAAQS | % of NAAQS
3-hour | 734.84 | 20.11 | 754.95 | 1300 | 58.07
24-hour | 332.58 | 31.58 | 364.36 | 365 | 99.82
Annual | 51.91 | 27.86 | 79.77 | 80 | 99.71

III. Evaluation

Section 110 of the CAA identifies what each SIP should contain. Each SIP must have the following elements: (1) A description of the air quality, (2) a comprehensive emissions inventory, (3) emission limitations and compliance schedules necessary for NAAQS attainment, (4) a permit program for new sources, (5) monitoring and reporting requirements, and (6) enforcement procedures. These required SIP elements are discussed here and in greater detail in the Technical Support Document (TSD) prepared for this rulemaking.

The modeling demonstration shows that the maximum annual average and the highest second-high 24-hour concentrations approach but do not exceed the NAAQS. All of these concentrations include an estimate of background SO2. The modeling demonstration with the SIP contained two detailed emissions inventories. One inventory listed the nearby sources modeled for the PEC attainment demonstration. The second inventory listed the nearby sources modeled for the Sun attainment demonstration.

The Operating Permits for the four sources all contain emission limitations. The emission limitations became effective as of the date of the signing of the Operating Permit.

The Sun Oil analysis includes a dispersion modeling protocol and analysis for a combined cycle energy project at the Sunoco refinery. The existing AMS Regulation XIII under the authority of 25 PA Code Chapter 127, adequately provides for review and permitting of new sources. AMS Regulation XIII continues to apply throughout the city and County of Philadelphia.

IV. Final Action

EPA is approving these SIP revisions because they satisfy all the requirements of Section 110 of the CAA and contain an acceptable demonstration that the NAAQS for sulfur dioxide are attained and will continue to be maintained in Philadelphia, Pennsylvania. EPA is publishing this rule without prior proposal because the Agency views this as a noncontroversial amendment and anticipates no adverse comment given the fact that the affected sources have all agreed to the SIP revision's provisions. However, in the “Proposed Rules” section of today's Federal Register, EPA is publishing a separate document that will serve as the proposal to approve the SIP revisions if adverse comments are filed. This rule will be effective on November 8, 2002, without further notice unless EPA receives adverse comment by October 9, 2002. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for four named sources.

C. Petitions for Judicial Review

Under section 307(b)(1) of the Clean Air Act, petitions for judicial review of this action must be filed in the United States Court of Appeals for the appropriate circuit by November 8, 2002. Filing a petition for reconsideration by the Administrator of this final rule does not affect the finality of this rule for the purposes of judicial review nor does it extend the time within which a petition for judicial review may be filed, and shall not postpone the effectiveness of such rule or action. This action approving revisions to the Commonwealth of Pennsylvania SIP for SO2 for Philadelphia County, may not be challenged later in proceedings to enforce its requirements. (See section 307(b)(2).)

List of Subjects in 40 CFR Part 52

Environmental protection, Air pollution control, Incorporation by reference, Intergovernmental relations, Reporting and recordkeeping requirements, Sulfur oxides.

Dated: August 16, 2002.
Donald S. Welsh,
Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraphs (c)(193) to read as follows:

§ 52.2020 Identification of plan.

* * * * *

(c) * * *

(193) Revisions to the Pennsylvania regulations to attain and maintain the sulfur dioxide National Ambient Air Quality Standards (NAAQS) in Philadelphia County, submitted on March 23, 2001, by the Pennsylvania Department of Environmental Protection.

(i) Incorporation by reference.

(A) Letter of March 23, 2001 from the Pennsylvania Department of Environmental Protection transmitting a revision to the State Implementation Plan (SIP) for Attainment and Maintenance of Sulfur Dioxide National Ambient Air Quality Standards for Philadelphia County.

(B) The following companies' Operating Permits:

(1) Trigen-Philadelphia Energy Corporation, Schuylkill Station, OP-SO2-95-002, effective July 27, 2000.

(2) Grays Ferry Cogeneration Partnership, OP-SO2-95-002A, effective July 27, 2000.

(3) PECO Energy Company, Schuylkill Generating Station, OP SO2-95-006, effective July 27, 2000.

(4) Sunoco, Inc. (R&M) Philadelphia Refinery, OP-SO2-95-039, effective July 27, 2000.

(ii) Additional Material.—Remainder of the State submittal pertaining to the revision listed in paragraph (c)(193)(i) of this section.

[FR Doc. 02-22727 Filed 9-6-02; 8:45 am]

BILLING CODE 6560-50-P